DEPARTMENT OF TRANSPORTATION

National Highway Traffic Safety Administration

[Docket No. NHTSA-2018-0076]

Drugs That Impair Safe Driving; Request for Comments; Correction

AGENCY: National Highway Traffic Safety Administration (NHTSA), Department of Transportation (DOT).

ACTION: Notice; correction.

SUMMARY: NHTSA published a document in the Federal Register of July 17, 2017, concerning request for comments on drugs that impair safe driving. The document had an incorrect docket number.

FOR FURTHER INFORMATION CONTACT: Richard Compton, 202-366-2699.

SUPPLEMENTARY INFORMATION:

Correction

In the Federal Register of July 17, 2018, in FR Doc. 2018-15209, on page 33305 in the second column, correct the “Docket No.” to read:

[Docket No. NHTSA-2018-0076]

July 19, 2018

Authority: 44 U.S.C. Section 3506(c)(2)(A).

Issued in Washington, DC, on August 3, 2018.
Jeff Michael,
Associate Administrator, Research and Program Development.

[FR Doc. 2018-16952 Filed 8-7-18; 8:45 am]

BILLING CODE 4910-59-P